DEPARTMENT OF HOMELAND SECURITY

Transportation Security Administration

Intent To Request Extension From OMB of One Current Public Collection of Information: Security Training for Surface Transportation Employees

AGENCY: Transportation Security Administration, DHS.

ACTION: 60-Day notice.

SUMMARY: The Transportation Security Administration (TSA) invites public comment on one currently approved Information Collection Request (ICR), Office of Management and Budget (OMB) control number 1652-0066, abstracted below, that we will submit to OMB for an extension in compliance with the Paperwork Reduction Act (PRA). The ICR describes the nature of the information collection and its expected burden. The collection involves information to validate compliance with the regulatory requirements, including Security Training Programs, Security Training Records, Security Coordinator Information, and Reporting Significant Security Concerns Information.

DATES: Send your comments by March 13, 2023.

ADDRESSES: Comments may be emailed to TSAPRA@tsa.dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0066; Security Training for Surface Transportation Employees. TSA was established by the Aviation and Transportation Security Act (ATSA) as the primary federal authority to enhance security for all modes of transportation.¹ The scope of TSA's authority includes assessing security risks, developing security measures to address identified risks, and enforcing compliance with these measures.² TSA also has broad regulatory authority to issue, rescind, revise, and enforce, regulations as necessary to carry out its transportation security functions.³

¹ Public Law 107-71, 115 Stat. 597 (Nov. 19, 2001). ATSA created TSA as a component of the Department of Transportation (DOT). Section 403(2) of the Homeland Security Act of 2002 (HSA), Public Law 107-296, 116 Stat. 2135 (Nov. 25, 2002), transferred all functions related to transportation security, including those of the Secretary of Transportation and the Under Secretary of Transportation for Security, to the Secretary of Homeland Security. Pursuant to DHS Delegation Number 7060.2, the Secretary delegated to the Administrator, subject to the Secretary's guidance and control, the authority vested in the Secretary with respect to TSA, including the authority in sec. 403(2) of the HSA.

² See 49 U.S.C. 114, which codified section 101 of ATSA.

³ 49 U.S.C. 114(l)(1).

As part of the Implementing Recommendations of the 9/11 Commission Act of 2007 (9/11 Act),⁴ Congress mandated regulations to enhance surface transportation security through security training of frontline employees. The mandate includes prescriptive requirements for who must be trained, what the training must encompass, and how to submit and obtain approval for a training program.⁵ The 9/11 Act also mandates regulations requiring higher-risk railroads and over-the-road buses to appoint security coordinators.⁶

⁴ Public Law 110-53 (121 Stat. 266; Aug. 3, 2007).

⁵ See secs. 1408, 1517, and 1534 of the 9/11 Act, codified at 6 U.S.C. 1137, 1167, and 1184, respectively.

⁶ See secs. 1512 and 1531 of the 9/11 Act, codified at 6 U.S.C. 1162 and 1181, respectively.

In accordance with these authorities and mandates, TSA published the Security Training for Surface Transportation Employees Final Rule (Rule). See 85 FR 16456 (March 23, 2020). This Rule requires owner/operators of higher-risk freight railroad carriers, public transportation agencies (including rail mass transit and bus systems), passenger railroad carriers and over-the-road bus companies to provide TSA-approved security training to employees who perform security-sensitive functions. In addition, TSA expanded its requirements for security coordinators and the reporting of significant security concerns, including bus operations, within the scope of the regulation. See 49 CFR parts 1570, 1580, 1582, and 1584.

The information collection mandated by the Rule includes the following:

• Security Training Program. Each owner/operator required to have a security training program must submit the program to TSA for approval to ensure that the program meets the required program elements. TSA then reviews the submitted-program, including curriculum, schedule for training, and employees to be trained, to verify that the training program satisfies the regulatory requirements. The curriculum must include training on how to observe, assess and respond to terrorist-related threats and/or incidents. The schedule must address both initial and recurrent training. The scope of the training must include all security-sensitive employees as applicable to the specific modal requirements. If TSA determines the program submitted meets the regulatory requirements, the owner/operator does not need to submit additional programs to TSA unless or until amendments or updates are required. If modifications are required, the owner/operator must re-submit their training program for TSA review and, as necessary, further modifications, until TSA-approval is obtained.

• Security Training Records. Each owner/operator is required to maintain security training records for each employee trained for no less than five years from the date of the training. This record retention schedule is necessary to validate compliance with the requirement to provide triennial training.

• Security Coordinator Information. Each owner/operator is required to designate and provide to TSA the contact information of a primary and at least one alternate Security Coordinator. This requirement is an expansion of previously imposed requirements applicable to rail operations. As a result, this requirement does not apply to populations currently covered under OMB 1652-0051 (Rail Transportation Security).

• Reporting Significant Security Concerns Information. Each owner/operator is required to report potential threats and significant security concerns to TSA within 24 hours of initial discovery. This requirement is an expansion of previously imposed requirements applicable to rail operations. As a result, this information collection does not apply to populations currently covered under OMB 1652-0051 (Rail Transportation Security).

Since the Rule was issued, changes in the industry have resulted in a reduction in the number of regulated persons. As a result, TSA is reducing the estimated number of respondents to the information collection from 289 to approximately 218 respondents, with an annual burden estimate of 4,623 hours (13,869 over three years).

Dated: January 5, 2023.
Christina A. Walsh,
TSA Paperwork Reduction Act Officer, Information Technology.

[FR Doc. 2023-00288 Filed 1-9-23; 8:45 am]

BILLING CODE 9110-05-P